DEPARTMENT OF THE TREASURY

Submission for OMB Review; Comment Request

June 20, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 29, 2002 to be assured of consideration.

Bureau of Alcohol, Tobacco and Firearms (BATF)

OMB Number: 1512-0141.

Form Number: ATF Form 2635 (5620.8).

Type of Review: Extension.

Title: Claim—Alcohol, tobacco and firearms taxes.

Description: This form is used by taxpayers to show the basis for a credit remission and allowance of tax on loss of taxable articles. To request a refund or abatement on taxes excessively or erroneously collected. To request a drawback of tax paid on distilled spirits used in the production of non-beverage products.

Respondents: Business or other for-profit, individuals or households, not-for-profit institutions.

Estimated Number of Respondents: 10,000.

Estimated Burden Hours Per Respondent: 1 hour.

Frequency of Response: On occasion, Monthly, Quarterly.

Estimated Total Reporting Burden: 10,000 hours.

OMB Number: 1512-0178.

Form Number: ATF Form 4483 (5300.35).

Type of Review: Extension.

Title: Report of Firearms Transactions.

Description: This form is used to evaluate firearms transactions by licensee when the Division Industry Officer determines the need to do so. It is prepared from existing records and submitted to the official.

Respondents: Business or other for-profit.

Estimated Number of Respondents: 250.

Estimated Burden Hours Per Respondent: 1 hour.

Frequency of Response: On occasion.

Estimated Total Reporting Burden: 250 hours.

OMB Number: 1512-0216.

Form Number: ATF Form 5120.17.

Type of Review: Extension.

Title: Report of Wine Premises Operations.

Description: Report is used to monitor wine operations, insure collection of wine tax revenue, and insure wine is produced in accordance with law and regulations. Report also provides raw data for ATF's monthly statistical release on wine.

Respondents: Business or other for-profit.

Estimated Number of Respondents: 1,755.

Estimated Burden Hours Per Respondent: 1 hour, 6 minutes.

Frequency of Response: Monthly, Annually.

Estimated Total Reporting Burden: 10,642 hours.

OMB Number: 1512-0369.

Recordkeeping Requirement ID Number: ATF REC 5300/1.

Type of Review: Extension.

Title: Licensed Firearms Manufacturers Records of Production, Disposition, and Supporting Data.

Description: Firearms manufacturers record is a permanent record of firearms manufactured and records of their disposition. These records are vital to support ATF's mission to inquire into the disposition of any firearm in the course of a criminal investigation.

Respondents: Business or other for-profit.

Estimated Number of Recordkeepers: 1,694.

Estimated Burden Hours Per Recordkeeper: 3 minutes.

Frequency of Response: On occasion.

Estimated Total Recordkeeping Burden: 76,611 hours.

OMB Number: 1512-0386.

Recordkeeping Requirement ID Number: ATF REC 7570/1.

Type of Review: Extension.

Title: Records of Acquisition and Disposition—Registered Importers of Arms, Ammunition and Implements of War on the U.S. Munitions Imports List.

Description: These records of items that are listed on the U.S. Munitions List are used to account for the items by the Registered Import and this Bureau in investigation to insure compliance with the Federal law.

Respondents: Business or other for-profit.

Estimated Number of Recordkeepers: 50.

Estimated Burden Hours Per Recordkeeper: 5 hours.

Frequency of Response: Other (every 6 years).

Estimated Total Recordkeeping Burden: 250 hours.

OMB Number: 1512-0570.

Form Number: None.

Type of Review: Extension.

Title: Implementation of Public Law 105-277, Omnibus Consolidated and Emergency Appropriations Act, 1999, Related to Firearms Disabilities for Nonimmigrant Aliens.

Description: ATF is amending the regulations to implement the provisions of Public Law 105-277 by prohibiting, with certain exceptions, the transfer to and possession of firearms and ammunition by aliens in the United States in a nonimmigrant classification. This temporary rule also removes the exemption from importation permit requirements for certain nonresidents of the United States. The collections of information are contained in 27 CFR 178.44, 178.45 178.120, and 178.124.

Respondents: Business or other for-profit, Individuals or households.

Estimated Number of Respondents/Recordkeepers: 12,100.

Estimated Burden Hours Per Respondent/Recordkeeper: 6 minutes.

Frequency of Response: On occasion.

Estimated Total Reporting/Recordkeeping Burden: 1,210 hours.

Clearance Officer: Jacqueline White, (202) 927-8930, Bureau of Alcohol, Tobacco and Firearms, Room 3200, 650 Massachusetts Avenue, NW., Washington, DC 20226.

OMB Reviewer: Joseph F. Lackey, Jr., (202) 395-7316, Office of Management and Budget,Room 10235, New Executive Office Building,Washington, DC 20503.

Lois K. Holland,
Departmental Reports Management Officer.

[FR Doc. 02-16318 Filed 6-27-02; 8:45 am]

BILLING CODE 4810-31-P